DEPARTMENT OF HOMELAND SECURITY

Bureau of Customs and Border Protection

19 CFR Part 101

[Docket No. USCBP-2008-0047; CBP Dec. 09-35]

Extension of Port Limits of Columbus, OH

AGENCY: Customs and Border Protection, DHS.

ACTION: Final rule.

SUMMARY: This document amends the Customs and Border Protection (CBP) regulations pertaining to CBP's field organization by extending the geographical limits of the port of Columbus, Ohio, to include the Rickenbacker Intermodal Terminal and supporting infrastructure so that it will be within the newly defined port limits. The change will make the boundaries more easily identifiable to the public. The change is part of a continuing program to more efficiently utilize CBP's personnel, facilities, and resources, and to provide better service to carriers, importers, and the general public.

DATES: Effective Date: January 6, 2010.

FOR FURTHER INFORMATION CONTACT: Wendy M. Cooper, Office of Field Operations, 202-344-2057.

SUPPLEMENTARY INFORMATION:

I. Background

In a Notice of Proposed Rulemaking (NPRM) published on May 18, 2009, in the Federal Register (74 FR 23133), Customs and Border Protection (CBP) proposed to amend the list of CBP ports of entry at 19 CFR 101.3(b)(1) to extend the limits of the port of Columbus, Ohio, to include the Rickenbacker Intermodal Terminal and supporting infrastructure so that it will be within the newly defined port limits.

In the NPRM, CBP explained that the current port limits of the Columbus, Ohio, port of entry are described in two separate Treasury Decisions (T.D.s): T.D. 82-9, published in the Federal Register (47 FR 1286) on January 12, 1982 and effective February 11, 1982; and T.D. 96-67, published in the Federal Register (61 FR 49058) on September 18, 1996 and effective October 18, 1996.

T.D. 82-9 specified the limits as follows:

“The geographical boundaries of the Columbus, Ohio, Customs port of entry include all of the territory within the corporate limits of Columbus, Ohio; all of the territory completely surrounded by the city of Columbus; and, all of the territory enclosed by Interstate Highway 270 (outer belt), which completely surrounds the city.”

T.D. 96-67 expanded the port limits of Columbus, Ohio, to encompass the port limits set forth in T.D. 82-9 as well as the following territory:

“Beginning at the intersection of Rohr and Lockbourne Roads, then proceeding southerly along Lockbourne Road to Commerce Street, thence easterly along Commerce Street to its intersection with the N & W railroad tracks, then southerly along the N & W railroad tracks to the Franklin-Pickaway County line, thence easterly along the Franklin-Pickaway County line to its intersection with Pontius Road, then northerly along Pontius Road to its intersection with Rohr Road, thence westerly along Rohr Road to its intersection with Lockbourne Road, the point of beginning, all within the County of Franklin, State of Ohio.”

CBP further explained in the NPRM that the Columbus Regional Airport Authority has partnered with the Norfolk Southern Corporation to create an intermodal facility immediately adjacent to Rickenbacker International Airport. In the NPRM, CBP stated that the creation of the new Rickenbacker Intermodal Terminal is an important part of the Columbus Regional Airport Authority's plan to address a capacity problem at current facilities in the area. The terminal is located to the south of the current port boundaries.

In order to accommodate the new facility and supporting infrastructure so that it falls within the newly defined port limits, the NPRM proposed to amend the port limits of the port of Columbus, Ohio. In the NPRM, CBP explained that this change will make the port boundaries more easily identifiable to the public and will result in better service that is provided by the port to the public by addressing a capacity problem at current facilities in the area. CBP determined that the change will not require a change in the staffing or workload at the port.

Interested parties were given until July 17, 2009, to comment on the proposed changes. No comments were received in response to the notice. Accordingly, CBP has determined to adopt the proposal as set forth in the NPRM published in the Federal Register (74 FR 23133) on May 18, 2009.

II. Conclusion

CBP is extending the geographical limits of the port of Columbus, Ohio. CBP believes that extending the geographical limits of the port of Columbus, Ohio to include the Rickenbacker Intermodal Terminal and supporting infrastructure will enable CBP to more efficiently utilize its personnel, facilities, and resources, and to provide better service to carriers, importers, and the general public. The port of entry description of Columbus, Ohio, will be revised as proposed in the NPRM.

III. Port Description of Columbus, Ohio

The port limits of Columbus, Ohio, which are expanded to include the Rickenbacker Intermodal Terminal and supporting infrastructure, encompass the port limits set forth in T.D. 82-9 and T.D. 96-67 and are as follows: The geographical boundaries of the Columbus, Ohio, port of entry include all of Franklin County, and that part of Pickaway County east of U.S. Route 23 and north of State Route 752, all in the State of Ohio.

IV. Authority

This change is made under the authority of 5 U.S.C. 301; 19 U.S.C. 2, 66, and 1624; and section 403 of the Homeland Security Act of 202, Public Law 107-296, 116 Stat. 2178 (Nov. 25, 2002) (6 U.S.C. 203).

V. Statutory and Regulatory Reviews

A. Executive Order 12866: Regulatory Planning and Review

This rule is not considered to be an economically significant regulatory action under Executive Order 12866, because it will not result in the expenditure of over $100 million in any one year. The change is intended to expand the geographical boundaries of the Port of Columbus, Ohio, and make it more easily identifiable to the public. There are no new costs to the public associated with this rule. Accordingly, this rule has not been reviewed by the Office of Management and Budget (OMB) under Executive Order 12866.

B. Regulatory Flexibility Act

The Regulatory Flexibility Act (5 U.S.C. 601 et seq.) requires federal agencies to examine the impact a rule would have on small entities. A small entity may be a small business (defined as any independently owned and operated business not dominant in its field that qualifies as a small business per the Small Business Act); a small not-for-profit organization; or a small governmental jurisdiction (locality with fewer than 50,000 people).

This rule does not directly regulate small entities. The change is part of CBP's continuing program to more efficiently utilize its personnel, facilities, and resources, and to provide better service to carriers, importers, and the general public. To the extent that all entities are able to more efficiently or conveniently access the facilities and resources within the expanded geographical area of the new port limits, this rule should confer benefits to CBP, carriers, importers, and the general public.

Because this rule does not directly regulate small entities, CBP certifies that this rule does not have a significant economic impact on a substantial number of small entities.

VI. Signing Authority

The signing authority for this document falls under 19 CFR 0.2(a) because the port extension is not within the bounds of those regulations for which the Secretary of the Treasury has retained sole authority. Accordingly, this final rule is signed by the Secretary of Homeland Security.

List of Subjects in 19 CFR Part 101

Customs duties and inspection, Customs ports of entry, Exports, Imports, Organization and functions (Government agencies).

Amendments to CBP Regulations

For the reasons set forth above, part 101, CBP Regulations (19 CFR part 101), is amended as set forth below.

PART 101—GENERAL PROVISIONS

1. The general authority citation for part 101 and the specific authority citation for section 101.3 continue to read as follows:

Authority: 5 U.S.C. 301; 19 U.S.C. 2, 66, 1202 (General Note 3(i), Harmonized Tariff Schedule of the United States), 1623, 1624, 1646a.

Sections 101.3 and 101.4 also issued under 19 U.S.C. 1 and 58b.

* * * * *

§ 101.3 [Amended]

2. The list of ports in § 101.3(b)(1) is amended by removing from the “Limits of Port” column for Columbus, Ohio, the present limits description “Including territory described in T.D. 96-67” and adding “CBP Dec. 09-35” in its place.

Dated: December 2, 2009.
Janet Napolitano,
Secretary.

[FR Doc. E9-29057 Filed 12-4-09; 8:45 am]

BILLING CODE 9111-14-P